FEDERAL COMMUNICATIONS COMMISSION

Notice of Public Information Collection(s) Being Submitted for Review to the Office of Management and Budget

April 22, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 30, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission, or an e-mail to PRA@fcc.gov. To view a copy of this information collection request (ICR) submitted to OMB: (1) Go to the Web page http://www.reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman at 202-418-0214 or via the Internet at Judith-B.Herman@fcc.gov.

SUPPLEMENTARY INFORMATION: OMB Control Number: 3060-1116.

Title: Submarine Cable Reporting.

Form Nos.: N/A.

Type of Review: Extension of a currently approved collection.

Respondents: Business or other for-profit.

Number of Respondents: 25 respondents; 50 responses.

Estimated Time Per Response: 550 hours.

Frequency of Response: On occasion and annual reporting requirements.

Obligation to Respond: Voluntary.

Total Annual Burden: 27,500 hours.

Total Annual Cost: N/A.

Privacy Act Impact Assessment: N/A.

Nature and Extent of Confidentiality: Information provided pursuant to this request will be viewed as presumptively confidential upon submission because the information would reflect reports on weaknesses in or damage to national communications infrastructure, and the release of this sensitive information to the public could potentially facilitate terrorist targeting of critical infrastructure and key resources. The submissions also may contain internal confidential information that constitutes trade secrets and commercial/financial information that the respondent does not routinely make public and public release of the submitted information could cause competitive harm by revealing information about the types and deployment of cable equipment and the traffic that flows across the system.

Needs and Uses: The Commission received emergency OMB approval for this information collection on April 16, 2008. Emergency OMB approval is only granted for six months. Therefore, Commission will submit this information collection to the OMB after this 60 day comment period as an extension (no change in reporting requirements) to obtain the full three-year clearance from them. There is no change in the estimated burden.

The Commission is requesting that current submarine cable landing licensees voluntarily provide information regarding the system status and service restoration activities for the submarine cable systems and cable landing stations and information about the physical location, assets, and restoration plans for the submarine cable systems. There are currently 50 authorized submarine cable systems, many having multiple entities on the cable landing license. (There are four pending cable landing license applications, and we anticipate conditioning grant of those licenses on compliance with this information request.) The Commission expects to request this information from approximately 25 different entities because, in many cases, the same entity is a licensee for more than one submarine cable system. We planned on contacting the cable landing licensees as soon as we received emergency OMB approval for this information request, and will request that the licensees respond, at least on a preliminary basis, by May 1, 2008. This information is needed in order to support Federal government national security and emergency preparedness communications programs, for the purpose of providing situational awareness of submarine cable system performance as well as a greater understanding of potential physical threats to the submarine cable systems. The Commission has been working with the Assistant Director for National Security and Emergency Preparedness, at the Office of Science and Technology Policy (OSTP) on this collection on behalf of other Executive Branch agencies, at the direction of the President.

Federal Communications Commission.
Marlene H. Dortch,
Secretary.

[FR Doc. E8-9514 Filed 4-29-08; 8:45 am]

BILLING CODE 6712-01-P